NATIONAL CREDIT UNION ADMINISTRATION

Sunshine Act; Notice of Agency Meeting

TIME AND DATE: 10 a.m., Thursday, July 29, 2010.

PLACE: Board Room, 7th Floor, Room 7047, 1775 Duke Street, Alexandria, VA 22314-3428.

STATUS: Open.

MATTERS TO BE CONSIDERED: 1. Proposed Rule—Part 750 of NCUA's Rules and Regulations, Golden Parachute and Indemnification Payments.

2. Interim Final Rule—Part 707 of NCUA's Rules and Regulations, Truth in Savings.

3. Interim Final Rule—Part 701 of NCUA's Rules and Regulations, Low-Income Definition.

4. Reprogramming of NCUA's Operating Budget for 2010.

5. Insurance Fund Report.

RECESS: 11 a.m.

TIME AND DATE: 11:15 a.m., Thursday, July 29, 2010.

PLACE: Board Room, 7th Floor, Room 7047, 1775 Duke Street, Alexandria, VA 22314-3428.

STATUS: Closed.

MATTERS TO BE CONSIDERED: 1. Creditor Claim Appeal. Closed pursuant to exemption (6).

2. Consideration of Supervisory Activities. Closed pursuant to exemptions (8), (9)(A)(ii) and 9(B).

FOR FURTHER INFORMATION CONTACT: Mary Rupp, Secretary of the Board, Telephone: 703-518-6304.

Mary Rupp,
Board Secretary.

[FR Doc. 2010-18504 Filed 7-23-10; 4:15 pm]

BILLING CODE P